DEPARTMENT OF THE INTERIOR

Bureau of Land Management

[BLM_NV_FRN; MO# 4500181312]

Notice of Availability of the Record of Decision and Approved Resource Management Plan Amendment for the Greenlink West Transmission Project in Clark, Esmeralda, Lyon, Mineral, Nye, Storey, and Washoe Counties, Nevada

AGENCY: Bureau of Land Management, Interior.

ACTION: Notice of availability.

SUMMARY: The Bureau of Land Management (BLM) announces the availability of the Record of Decision (ROD) for the Approved Resource Management Plan (RMP) and associated Final Environmental Impact Statement (EIS) for the Greenlink West Transmission Project located in Clark, Esmeralda, Lyon, Mineral, Nye, Storey, and Washoe Counties, Nevada. The Acting Deputy Secretary of the Interior signed the ROD on September 9, 2024, which constitutes the decision of the BLM and two other Department of Interior agencies (National Park Service, Bureau of Indian Affairs) and makes the Approved RMP Amendments for the BLM effective immediately. The Department of Energy/National Nuclear Security Administration, as a Cooperating Agency, also signed the ROD that constitutes the decision for the Department of Energy/National Nuclear Security Administration on September 9, 2024.

DATES: The Acting Deputy Secretary of the Interior, representative of the lead federal agency (BLM), signed the ROD/Approved RMP Amendment on September 9, 2024.

ADDRESSES: The ROD/Approved RMP Amendment is available online at https://eplanning.blm.gov/eplanning-ui/project/2017391/510. Printed copies of the ROD/Approved RMP Amendment are available for public inspection at the Nevada State Office, 1340 Financial Boulevard, Reno, Nevada or can be provided upon request by contacting Brian Buttazoni, Project Manager, at: 775-861-6491.

FOR FURTHER INFORMATION CONTACT: Brian Buttazoni, Project Manager, telephone (775) 861-6491; address 1340 Financial Boulevard, Reno, Nevada 89502; email BLM_NV_greenlinkwest@blm.gov. Individuals in the United States who are deaf, blind, hard of hearing, or have a speech disability may dial 711 (TTY, TDD, or TeleBraille) to access telecommunications relay services for contacting Mr. Buttazoni. Individuals outside the United States should use the relay services offered within their country to make international calls to the point-of-contact in the United States.

SUPPLEMENTARY INFORMATION: The Acting Deputy Secretary of the Interior has approved the RMP Amendments to re-classify the visual resources management classification of certain segments, and to make modifications to certain Section 368 corridors, which required amending the existing 2001 Carson City Consolidated RMP, 1997 Tonopah RMP and ROD, the 1998 ROD for the Approved Las Vegas RMP and Final EIS, and 2009 Approved RMP Amendment(s)/ROD for Designation of Energy Corridors on BLM-Administered Lands in the 11 Western States.

The ROD allows the BLM and three other federal agencies (National Park Service, Bureau of Indian Affairs (BIA), and Department of Energy/National Nuclear Security Administration) to issue their agency-specific authorizations for their segments within their jurisdiction for the construction, operation and maintenance, and decommissioning of the 472-mile long transmission project and ancillary facilities. As reflected in the ROD, the BIA is only authorized to grant the rights-of-way (ROW) across those Tribal lands for which NV Energy has received consent. Issuing these authorizations meets the agencies' purpose and need to respond to NV Energy's applications.

There were no changes to the Approved RMP from the Proposed RMP for BLM-administered lands, which was published on June 14, 2024. The Approved RMP allows the BLM to modify the visual resource classification for certain segments of the project, along with modification to the alignment of certain Section 368 corridor segments.

The BLM provided the Proposed RMP Amendment for a 30-day public protest period beginning on June 14, 2024, and at the end of the public protest period on July 15, 2024, six valid protests had been received. The BLM also received seven other comments which were not valid protests. The BLM Director resolved all protests. A copy of the Protest Resolution Report is available at: https://www.blm.gov/programs/planning-and-nepa/public-participation/protest-resolution-reports. No changes were made to the RMP Amendment as a result of these protests.

The BLM provided the Proposed RMP Amendment to the Governor of Nevada for a 60-day Governor's consistency review. On July 25, 2024, the Governor's Office responded to this request and determined that no inconsistencies with Nevada state plans were identified.

Approval of this ROW constitutes the final decision of the Department of the Interior (DOI) and, in accordance with the regulations at 43 CFR 4.410(a)(3), is not subject to appeal under DOI regulations at 43 CFR part 4.

Laura Daniel-Davis,
Acting Deputy Secretary of the Interior.

[FR Doc. 2024-20864 Filed 9-12-24; 8:45 am]

BILLING CODE 4331-21-P